DEPARTMENT OF THE INTERIOR

Bureau of Reclamation

South Valley Facilities Expansion Project—Clark County, NV

AGENCY: Bureau of Reclamation, Interior.

ACTION: Notice of intent to prepare an environmental impact statement (EIS) and notice of scoping meetings.

SUMMARY: The Bureau of Reclamation (Reclamation), together with the Bureau of Land Management (BLM) and the National Park Service (NPS) as cooperating agencies, is preparing an EIS pursuant to the National Environmental Policy Act to evaluate the effects of the South Valley Facilities Expansion (SVFE) Project (Project), as proposed by the Southern Nevada Water Authority (SNWA). The SNWA has applied for temporary and permanent rights-of-way to construct water treatment and conveyance facilities on public land administered by Reclamation, BLM, and NPS in Clark County, Nevada.

DATES: Public scoping meetings will be held from 4:30 to 8 p.m., with a half-hour presentation at 5:30 p.m., on Monday, Tuesday, and Wednesday, May 5, 6, and 7, 2008, to receive oral and written input on the scope of issues to be addressed in the EIS such as alternatives, resources, and other concerns. Written comments on the scope of the EIS should be submitted by May 23, 2008.

ADDRESSES: Send written comments to Ms. Laureen Perry (LC-2631), Bureau of Reclamation, Lower Colorado Region, PO Box 61470, Boulder City, NV 89006-1470, or to svfe-eis@lc.usbr.gov, or fax to 702-293-8418. The public scoping meetings will be held at the following locations:

• Monday, May 5, 2008: Valley View Recreation Center, 500 Harris Street, Henderson, NV 89015.

• Tuesday, May 6, 2008: Sun City MacDonald Ranch Community Center, 2020 West Horizon Ridge Parkway, Henderson, NV 89012.

• Wednesday, May 7, 2008: Wingate Hotel, 3041 St. Rose Parkway, Henderson, NV 89052.

FOR FURTHER INFORMATION CONTACT: Ms. Laureen Perry at 702-293-8020, or at the above address.

SUPPLEMENTARY INFORMATION: Evolving water use patterns in the southern area of the Las Vegas Valley and the need to increase the reliability and flexibility of the SNWA water supply system have resulted in the proposal to redistribute, treat, and convey existing water supplies to meet the water demand projections and use patterns in this area. The proposed SVFE Project would increase treatment and conveyance capacity to allow SNWA to redistribute existing water supplies to locations identified by the City of Henderson and the Las Vegas Valley Water District to meet projected water demands and to increase the flexibility and reliability of the SNWA system to meet seasonal and regional water needs. The Project consists of two major elements: (1) An expansion of raw water transmission and treatment facilities (the treatment element), and (2) construction of a new transmission system to convey treated water to the southern area of the Las Vegas Valley (the conveyance element).

The raw water transmission and treatment element of the Project includes upgrades and additional facilities to redistribute raw water from existing sources at Lake Mead to the River Mountains Water Treatment Facility (RMWTF); expansion of treatment capacity within the existing footprint of the RMWTF; and enhancement of existing pumping station capacity and water filtration rates.

The conveyance element would include construction of approximately 26 miles of underground pipeline (72- to 114-inch diameter) from the RMWTF to a location west of Interstate 15 in the vicinity of Cactus Avenue and Decatur Boulevard. Appurtenant facilities would include a 40-million gallon storage reservoir, rate-of-flow control stations, and a pumping station. Currently, the South Valley Lateral transmits water supplies to the southern Las Vegas Valley. The conveyance element of the SVFE Project would increase SNWA's management flexibility and system reliability by supplying water to locations identified by the City of Henderson and Las Vegas Valley Water District, and through a planned interconnection with the South Valley Lateral, would allow areas to be served from either lateral if needed as a result of maintenance, repair, or power outage.

Potential project alternatives include different pipeline alignments, different pipeline construction methods (trench excavation and tunneling), and different locations for pumping stations, storage reservoir, and appurtenant facilities. Alignments being considered for the treatment element of the Project include following the existing raw water pipeline from the vicinity of Lake Mead to the RMWTF, or a new route under the River Mountains. One alignment being considered for the conveyance element includes a southern route from the RMWTF that heads south and then west and generally parallels the southern corporate limits of the City of Henderson, the northern boundary of Sloan Canyon National Conservation Area, and north of the Henderson Executive Airport to Gillespie Street. The northern conveyance alignment heads west from the RMWTF to U.S. Highway 95 where the alignment may go either north or south around Black Mountain. The route continues west and generally parallels Interstate 215 to St. Rose Parkway and to Maryland Parkway where the route turns south and then west to Gillespie Street. At Gillespie Street both the northern and southern alignments head south to St. Rose Parkway and north to Silverado Ranch Boulevard to new distribution facilities, and west across Interstate 15 to the terminus in the vicinity of Cactus Avenue and Decatur Boulevard. Maps of the potential alternative alignments will be available for review at the public scoping meetings, may be requested from Ms. Laureen Perry (at the above address), or may be viewed at http://www.usbr.gov/lc/region/g2000/envdocs.html.

Special Assistance for Public Scoping Meeting

If special assistance or other accommodation is needed, please notify Ms. Laureen Perry at 702-293-8020, or at svfe-eis@lc.usbr.gov, or by mail at the above address as far in advance as possible to secure the needed services. If a request cannot be honored, the requestor will be notified.

Public Disclosure

Before including your name, address, phone number, e-mail address, or other personal identifying information in your comment, you should be aware that your entire comment, including personal identifying information, may be made publicly available at any time. While you may request in your comment to withhold your personal identifying information from public review, Reclamation cannot guarantee it will be able to do so.

Dated: March 20, 2008.
Jayne Harkins,
Deputy Regional Director, Lower Colorado Region.

[FR Doc. E8-8380 Filed 4-17-08; 8:45 am]

BILLING CODE 4310-MN-P